POSTAL SERVICE

Board of Governors; Sunshine Act Meeting

Dates and Time: Tuesday, April 1, 2008, at 11:30 a.m.; and Wednesday, April 2, 2008, at 8:30 a.m. and 10:30 a.m.

Place: Washington, DC, at U.S. Postal Service Headquarters, 475 L'Enfant Plaza, SW., in the Benjamin Franklin Room.

Status: April 1—11:30 a.m.—Closed; April 2—8:30 a.m.—Open; April 2—10:30 a.m.—Closed.

Matters To Be Considered

Tuesday, April 1 at 11:30 a.m. (Closed).

1. Strategic Issues.

2. Product Pricing.

3. Financial Update.

4. Personnel Matters and Compensation Issues.

5. Governors' Executive Session—Discussion of prior agenda items and Board Governance.

Wednesday, April 2 at 8:30 a.m. (Open).

1. Minutes of the Previous Meetings, January 29-30, and March 4, 2008.

2. Remarks of the Chairman of the Board.

3. Remarks of the Postmaster General and CEO.

4. Committee Reports.

Wednesday, April 2 at 8:30 a.m. (Open) [continued].

5. Capital Investments.

a. Advanced Facer Canceller System (AFCS) Model 200.

b. Integrated Data System—National Directory Support System (IDS/NDSS).

c. Bethpage, New York, Logistics and Distribution Center.

6. Tentative Agenda for the May 6-7, 2008, meeting in Washington, DC.

Wednesday, April 2 at 10:30 a.m. (Closed)—if needed.

1. Continuation of Tuesday's closed session agenda.

FOR MORE INFORMATION CONTACT: Wendy A. Hocking, Secretary of the Board, U.S. Postal Service, 475 L'Enfant Plaza, SW., Washington, DC 20260-1000. Telephone (202) 268-4800.

Wendy A. Hocking,
Secretary.

[FR Doc. E8-6245 Filed 3-27-08; 8:45 am]

BILLING CODE 7710-12-M